DEPARTMENT OF AGRICULTURE

Natural Resources Conservation Service

Notice of Availability of Final Environmental Assessment and Finding of No Significant Impact for the Delta-Clearwater Remediation Project, Delta Junction, AK

AGENCY: Alaska State Office, Natural Resources Conservation Service, USDA.

ACTION: Notice of availability.

SUMMARY: The Natural Resources Conservation Service (NRCS) has prepared an Environmental Assessment (EA) and Finding of No Significant Impact (FONSI) consistent with the National Environmental Policy Act (NEPA) of 1969, as amended, to construct the Delta-Clearwater Remediation Project, authorized under the Watershed Protection, Watershed Surveys, and Flood Prevention Act of 1954 (Pub. L. 83-566, 83d Cong., 68 Stat. 666), as amended. Upon review and analysis of potential environmental impacts, the State Conservationist (Alaska) found that the project would not result in a significant impact on the quality of the human environment. Therefore, a FONSI was issued and no environmental impact statement is required.

DATES: The Final EA and FONSI are available for review through March 8, 2010.

ADDRESSES: Public review copies are available at the following locations:

1. Natural Resources Conservation Service, Palmer State Office, 800 West Evergreen, Suite 100, Palmer, AK 99645.

2. Natural Resources Conservation Service, 1420.5 Alaska Highway, Jarvis Office Building, Delta Junction, AK 99737.

FOR FURTHER INFORMATION CONTACT: Copies of the Final EA and FONSI, or additional information on matters related to the project, can be obtained by contacting Mr. Phil Naegele, Assistant State Conservationist (Operations), USDA Natural Resources Conservation Service, 800 West Evergreen, Suite 100, Palmer, AK 99645. Telephone: (907) 761-7758.

SUPPLEMENTARY INFORMATION: The U.S. Department of Agriculture Natural Resources Conservation Service (NRCS) is proposing a watershed remediation project within the Rhoads Creek and Granite Creek sub-watersheds of the Delta-Clearwater River. The project would involve removing the structural watershed control measures installed by NRCS in 2001 and remediation of the site to prevent further erosion and channelization of surface water flows. The project is located in portions of Sections 27, 28, 33, 34, and 35 of Township 11 South, Range 12 East, and Sections 3 and 4 of Township 12 South, Range 12 East, of the Fairbanks Meridian, near Mile 1408 of the Alaska Highway (Latitude 63.914° North, Longitude 145.388° West).

NRCS, in cooperation with the Salcha-Big Delta Soil and Water Conservation District (SWCD), Alaska Department of Fish and Game (ADF&G), Alaska Department of Environmental Conservation (ADEC) and the Alaska Department of Natural Resources (ADNR), conducted a watershed planning effort which was completed in 1995. This plan included structural and non-structural measures intended to reduce sediment deposition into the Delta-Clearwater River and Clearwater Bog as well as reducing flood and sediment damage to cropland, the Alaska Highway, local roads, and recreation areas. A supplement to this plan was completed in 1998 in order to address a reduction in the infiltration rate from the original estimate to that identified during field tests.

Phase I of construction, initiated in September 1999, consisted of approximately 5,000 linear feet of infiltration basin along with side inlets and training dikes installed at Mile 1408 Road on the south side of the Alaska Highway. Construction of Phase I was completed in July 2001. Flow events during and after construction identified numerous problems with the project as designed. In response to these issues, a formal engineering investigation was completed in 2002. The report recommended a revised planning effort analyzing a wide variety of alternatives. An extended planning effort involving the project sponsors, other local, State and Federal agencies, and the general public was conducted between 2003 and 2008. The proposed project is the outcome of this 5-year multi-agency planning effort.

The proposed project would restore the entire project site as closely as practical to pre-project topography and conditions. Site restoration would involve removing the training dikes, filling the side inlets, filling the infiltration basin, removing the built-up portion of 1408 Road, providing a reasonable planting medium on the restored surface of the site, either seeding or relying on natural regeneration, removal of the flow splitting channels near the Alaska Highway, and purchasing flood easements for affected private property.

It is currently anticipated that topsoil material for site restoration would be obtained from berm piles located on nearby agricultural land. These berms are remnant from the land clearing efforts that were part of the original State of Alaska Delta Agricultural Projects, and contain topsoil mixed with high concentrations of organic matter and some woody debris. Using the berm material has numerous benefits as a planting medium. The high concentration of organic matter provides both soil fertility and moisture retention benefits. The berms also serve as seed banks for native vegetation, and the woody debris can be used on the restored site to disrupt overland flow. The berms screened for removal and use will be selected based on criteria that are currently being developed by NRCS. Berms which are growing species which are listed on the State of Alaska list of noxious weeds (11 AAC 34.020) will be eliminated from consideration, and no berms will be removed from lands currently enrolled in the Cropland Reserve Program.

The cost of this alternative is roughly estimated at $8 to $10 million dollars. Even with site restoration, some short-term maintenance will be required if the recently restored site is damaged by flow events. While it will be relatively expensive to restore the project site, the re-planning team considered the expense justifiable in light of current conditions and public concerns. This justification is premised on the reduction of erosion from the existing project site by removing the training dikes and side inlets that concentrate inflow to the basin, as well as removing the artificially steep flow gradient into the existing basin. In addition, restoration efforts would involve removing the built-up 1408 Road. The road currently functions as a levee and concentrates flow from the infiltration basin to the Alaska Highway.

Agency scoping letters for the proposed project were sent on July 10, 2009, with a scoping meeting and site visit conducted on August 5, 2009. The Draft Environmental Assessment was made available for public and agency review on September 17, 2009, with a public open house being held in Delta Junction on September 28, 2009. A follow-up meeting with agencies was held on September 29, 2009 also in Delta Junction. Details regarding the public and agency involvement are discussed in the Final Environmental Assessment.

Based on the information in the Final Environmental Assessment the proposed action is not a major Federal action significantly affecting the quality of the human environment, and a Finding of No Significant Impact was issued on January 11, 2010.

Signed in Palmer, Alaska, on January 11, 2010.
Robert N. Jones,
State Conservationist (Alaska).

[FR Doc. 2010-2403 Filed 2-3-10; 8:45 am]

BILLING CODE 3410-2D-P